INTERNATIONAL TRADE COMMISSION

[Investigation No. 332-506]

Advice Concerning Possible Modifications to the U.S. Generalized System of Preferences, 2008 Review of Competitive Need Limit Waivers

AGENCY: United States International Trade Commission.

ACTION: Change in scope of investigation.

SUMMARY: At the direction of the Acting United States Trade Representative (USTR) in letters received on March 3, 2009 and March 10, 2009, the U.S. International Trade Commission (Commission) has terminated its investigation with respect to the following articles, and will not provide advice with respect to these articles:

Calcium silicon ferroalloys (HTS subheading 7202.99.20) from Argentina (USTR accepted case 2008-18).

Amino-naphthols and amino-phenol, their ethers, esters, except those with more than one kind of oxygen function; and salts thereof, nesoi (HTS subheading 2922.41.00) from Brazil (USTR accepted case 2008-14).

Ferrochromium containing by weight more than 4 percent of carbon (HTS subheading 7202.41.00) from India (USTR accepted case 2008-17).

The letters stated that the petitions requesting waivers of the competitive need limit for the subject articles have been withdrawn. All other information and due dates relating to this investigation remain the same as previously announced by the Commission, and the Commission expects to transmit its report containing its advice to the USTR by April 13, 2009.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Information may be obtained from Eric Land, Project Leader, Office of Industries (202-205-3349 or eric.land@usitc.gov) or Gail Burns, Deputy Project Leader, Office of Industries (202-205-2501 or gail.burns@usitc.gov). For information on the legal aspects of the investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). The public record for this investigation may be viewed on the Commission's electronic docket (EDIS-ONLINE) at http://www.usitc.gov/secretary/edis.htm. Persons with mobility impairments who will need special assistance in gaining access to the Commission should contact the Office of the Secretary at 202-205-2000.

Background: The Commission instituted its investigation on January 23, 2009, following receipt of a letter from the USTR on January 12, 2009. Notice of institution of the investigation and the scheduling of a public hearing, which was held on February 27, 2009, was published in the Federal Register of January 28, 2009 (74 FR 4974).

Issued: March 17, 2009.
By order of the Commission.
Marilyn R. Abbott,
Secretary to the Commission.

[FR Doc. E9-6166 Filed 3-20-09; 8:45 am]

BILLING CODE 7020-02-P